NATIONAL ARCHIVES AND RECORDS ADMINISTRATION

Report on Current Recordkeeping Practices in the Federal Government; Request for Comment

AGENCY: National Archives and Records Administration (NARA).

ACTION: Notice of availability of report; request for comment.

SUMMARY: NARA is seeking public comment on the Report on Current Recordkeeping Practices within the Federal Government. The report is an analysis of two significant data collections that were conducted by NARA and SRA International, Inc. (SRA) to assess the state of recordkeeping and records use in the Federal Government. This is an important step in NARA's efforts to review and, if necessary, revise records management policies and guidance to fit the changing office environment.

The report is available electronically at http://www.nara.gov/records/rmi.html. For a paper copy of the report, contact the person listed in FOR FURTHER INFORMATION CONTACT.

DATES: Comments must be received by January 31, 2002.

ADDRESSES: Please send comments to comments@nara.gov, or fax them to 301-713-7270, or mail them to NARA (NPOL), 8601 Adelphi Rd. Rm. 4100, College Park, MD 20740-6001

FOR FURTHER INFORMATION CONTACT: Susan Cummings at 301-713-7360 x238.

SUPPLEMENTARY INFORMATION: NARA has undertaken three initiatives to document the current recordkeeping and records use environment in Federal agencies, to use that information to analyze NARA's records management policies, and to redesign, if necessary, the scheduling and appraisal process. This report is the result of the first initiative.

SRA used individual interviews, focus groups, and an Internet survey to find out how agency officials and staff viewed records management and what they perceived its role to be in today's modern office. More than 40 Federal agencies participated in the interviews and focus groups, and more than 475 individuals replied to the Internet survey. Additionally, using a process called Records Systems Analyses, or RSAs, NARA teams examined selected business processes in Federal agencies to determine how records are actually being created and managed. The report identifies patterns in records management, suggests situational models to explain those patterns, and identifies points where NARA could effectively intervene to improve records management.

Dated: December 14, 2001.
Nancy Allard,
Federal Register Liaison.

[FR Doc. 01-31341 Filed 12-19-01; 8:45 am]

BILLING CODE 7515-01-P